DEPARTMENT OF THE INTERIOR

Bureau of Land Management

[17X.LLAZ956000.L14400000.BJ0000.LXSSA225000.241A]

Notice of Filing of Plats of Survey; Arizona

AGENCY: Bureau of Land Management, Interior.

ACTION: Notice of official filing.

SUMMARY: The plats of survey of the following described lands were officially filed in the Bureau of Land Management (BLM), Arizona State Office, Phoenix, Arizona, on the dates indicated. Surveys announced in this notice are necessary for the management of lands administered by the agencies indicated.

ADDRESSES: These plats will be available for inspection in the Arizona State Office, Bureau of Land Management, One North Central Avenue, Suite 800, Phoenix, Arizona, 85004-4427. Protests of the survey should be sent to the Arizona State Director at this address.

FOR FURTHER INFORMATION CONTACT: Gerald Davis, Chief Cadastral Surveyor of Arizona; (602) 417-9558; gtdavis@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION:

The Gila and Salt River Meridian, Arizona

The supplemental plat, in two sheets, showing the relotting in sections 5 and 6, Township 14 North, Range 10 East, accepted July 13, 2017, and officially filed July 14, 2017, for Group 9110, Arizona.

This plat was prepared at the request of the United States Forest Service.

The plat, in two sheets, representing the dependent resurvey of a portion of the Fourth Standard Parallel North (south boundary), a portion of the subdivisional lines, and the meanders of the abandoned left bank of the Colorado River, through sections 20 and 32, the survey of division of accretion lines, the traverse of a portion of the abandoned left bank of the Colorado River through sections 19 and 29, and a portion of the subdivision of section 20, and the survey of the fixed and limiting boundary of the abandoned left bank of the Colorado River through section 31, the subdivision of section 28, the metes-and-bounds survey in the northeast quarter of section 28, the survey of the north and south boundaries of the easement for the Topock Inlet Canal adjacent to the accretions in sections 19, 20 and 29, Township 17 North, Range 21 West, accepted August 2, 2017, and officially filed August 3,2017, for Group 1154, Arizona.

This plat was prepared at the request of the Bureau of Reclamation.

The plat representing the dependent resurvey of a portion of the east boundary, and the surveys of the division of accretion line between Ranges 21 and 22 West, and a portion of the meanders of the left bank of the Colorado River in section 24, and the metes-and-bounds survey of the north and south boundaries of the easement for the Topock Inlet Canal adjacent to and within the accretions of section 24, Township 17 North, Range 22 West, accepted August 2, 2017, and officially filed August 3, 2017, for Group 1154, Arizona.

This plat was prepared at the request of the Bureau of Reclamation.

The San Bernardino Meridian, Arizona

The plat representing the dependent resurvey of a portion of the subdivisional lines and the 1883 meanders of the right bank of the Colorado River, and the subdivision of section 4, the survey of an informative traverse and metes-and-bounds survey of the right bank of the abandoned channel of the Colorado River, and the division of accretion line the northeast quarter of section 4, Township 8 North, Range 23 East, accepted August 2, 2017, and officially filed August 3, 2017, for Group 1154, Arizona.

This plat was prepared at the request of the Bureau of Reclamation.

The plat, in three sheets, representing the dependent resurvey of a portion of the south boundary, and a portion of the subdivisional lines, and the informative traverses of the 1883 right bank of the Colorado River through sections 33 and 34, the subdivision of section 33, the informative traverse and metes-and-bounds survey of the right bank of the abandoned channel of the Colorado River in sections 33 and 34, the informative traverse of the medial line of the abandoned channel of the Colorado River adjacent to sections 33 and 34, the survey of the north and south boundaries of the Topock Inlet Canal lease within the abandoned channel of the Colorado River, a retracement of a portion of a land description and a survey made part of CV-98-4072, in the Superior Court of Arizona, in and for the County of Mohave, Township 9 North, Range 23 East, accepted August 2, 2017, and officially filed August 3, 2017, for Group 1154, Arizona.

This plat was prepared at the request of the Bureau of Reclamation.

A person or party who wishes to protest against any of these surveys must file a written notice of protest within 30 calendar days from the date of this publication with the Arizona State Director, Bureau of Land Management, stating that they wish to protest.

A statement of reasons for a protest may be filed with the notice of protest to the State Director, or the statement of reasons must be filed with the State Director within thirty (30) days after the protest is filed. Before including your address, or other personal information in your protest, please be aware that your entire protest, including your personal identifying information, may be made publicly available at any time. While you can ask us in your comment to withhold your personal identifying information from public review, we cannot guarantee that we will be able to do so.

Authority: 43 U.S.C. Chap. 3.

Gerald T. Davis,
Chief Cadastral Surveyor of Arizona.

[FR Doc. 2017-19761 Filed 9-15-17; 8:45 am]

BILLING CODE 4310-32-P